DEPARTMENT OF HEALTH AND HUMAN SERVICES

National Institutes of Health

Center for Scientific Review; Amended Notice of Meeting

Notice is hereby given of a change in the meeting of the Center for Scientific Review Special Emphasis Panel, PAR Panel: Alzheimer's and Related Neurodegenerative Disorders Review, January 22, 2026, 09:30 a.m. to January 22, 2026, 06:30 p.m., National Institutes of Health, Rockledge II, 6701 Rockledge Drive, Bethesda, MD 20892 which was published in the Federal Register on December 03, 2025, 90 FR 55750, Doc 2025-21869.

This meeting is being amended due to SRO changing from Dr. Bo-Shiun Chen to Dr. Roger Bannister. The meeting is closed to the public.

Dated: December 18, 2025.
Bruce A. George,
Program Analyst, Office of Federal Advisory Committee Policy.

[FR Doc. 2025-23596 Filed 12-19-25; 8:45 am]

BILLING CODE 4140-01-P